OFFICE OF THE UNITED STATES TRADE REPRESENTATIVE

Notice of Meeting of the Industry Trade Advisory Committee on Small and Minority Business (ITAC-11)

AGENCY: Office of the United States Trade Representative.

ACTION: Notice of a Partially Opened Meeting.

SUMMARY: The Industry Trade Advisory Committee on Small and Minority Business (ITAC-11) will hold a meeting on Monday, June 9, 2008, from 9 a.m. to 4 p.m. The meeting will be closed to the public from 9 a.m. to 1 p.m. and opened to the public from 1 p.m. to 4 p.m.

DATES: The meeting is scheduled for June 9, 2008, unless otherwise notified.

ADDRESSES: The meeting will be held at the Enterprise Florida, One Orlando Center—800 North Magnolia, Suite 1100, Orlando, Florida.

FOR FURTHER INFORMATION CONTACT: Laura Hellstern, DFO for ITAC-11 at (202) 482-3222, Department of Commerce, 14th Street and Constitution Avenue, NW., Washington, DC 20230.

SUPPLEMENTARY INFORMATION: During the opened portion of the meeting the following agenda items will be considered.

• APEC SME Ministerial.

• America's Competitiveness Forum.

• Export Opportunities in FTA Areas.

• Patent Reform Legislation.

• The U.S. Customs/Border Protection's CTPAT Program—how it impacts small business.

Tiffany M. Moore,
Assistant U.S. Trade Representative for Intergovernmental Affairs and Public Liaison.

[FR Doc. E8-12322 Filed 6-2-08; 8:45 am]

BILLING CODE 3190-W7-P